DEPARTMENT OF HEALTH AND HUMAN SERVICES

National Institutes of Health

Center for Scientific Review; Amended Notice of Meeting

Notice is hereby given of a change in the meeting of the Center for Scientific Review Special Emphasis Panel, Small Business: Cardiovascular Sciences, March 25, 2020 8:00 a.m. to March 25, 2020, 6:00 p.m. Hilton Garden Inn Bethesda, 7301 Waverly Street, Bethesda, MD 20814, which was published in the Federal Register on March 4, 2020, 85 FR 12794.

The meeting location is being held at the National Institutes of Health, 6701 Rockledge Drive, Bethesda, MD 20892. The meeting date and time remain the same. The meeting is closed to the public.

Dated: March 11, 2020.
Ronald J. Livingston, Jr.,
Program Analyst, Office of Federal Advisory Committee Policy.

[FR Doc. 2020-05426 Filed 3-16-20; 8:45 am]

BILLING CODE 4140-01-P